NATIONAL COMMISSION ON MILITARY, NATIONAL, AND PUBLIC SERVICE

[NCMNPS Docket No. 02-2018-01]

Privacy Act of 1974; System of Records

AGENCY: National Commission on Military, National, and Public Service.

ACTION: Notice of a new system of records.

SUMMARY: In accordance with the Privacy Act of 1974, as amended, the National Commission on Military, National, and Public Service (the “Commission”) gives notice of the establishment of a new system of records titled, “NCMNPS-2, Employee Administrative Records”.

DATES: Written comments should be submitted on or before January 17, 2019. The new system of records will be effective January 17, 2019, unless the comments received result in a contrary determination.

ADDRESSES: You may submit comments, identified by the title and docket number (see above), by any of the following methods:

• Email: legal@inspire2serve.gov. Please include the docket number in the subject line of the message.

• Website: http://www.inspire2serve.gov/content/share-your-thoughts. Follow the instructions on the page to submit a comment and include the docket number in the comment.

• Mail: National Commission on Military, National, and Public Service, Attn: Docket 02-2018-01, 2530 Crystal Drive, Suite 1000, Box No. 63, Arlington, VA 22202.

To ensure proper handling, please include the docket number on your correspondence. Comments will be available for public inspection and copying on official business days between the hours of 10 a.m. and 5 p.m. Eastern Time. You can make an appointment to inspect comments by telephoning 703-571-3742. All comments, including attachments and other supporting materials, will become part of the public record and subject to public disclosure. You should submit only information that you wish to make available publicly. Sensitive personal information, such as account numbers or social security numbers, should not be included.

FOR FURTHER INFORMATION CONTACT: For general inquiries, submission process questions, or any additional information about this request for comments, please contact Rachel Rikleen, at (703) 571-3760 or by email at legal@inspire2serve.gov.

SUPPLEMENTARY INFORMATION: The National Commission on Military, National, and Public Service (the “Commission”) was created as an independent agency within the executive branch by the National Defense Authorization Act for Fiscal Year 2017, Public Law 114-328, 130 Stat. 2000 (2016). As a federal agency, the Commission is required to maintain information regarding its personnel. The Employee Administrative system helps the Commission manage and administer human capital functions, including personnel actions, payroll, time and attendance, leave, insurance, tax, retirement and other benefits, and employee claims for loss or damage to personal property; to prepare related reports to other federal agencies; to prepare travel arrangements for Commission employees; and to apply the federal ethics regulations to the Commission and its employees. The information will also be used for administrative purposes to ensure quality control, performance, and improving management processes. This system will be included in the Commission's inventory of record systems.

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents.

The report of this system of records has been submitted to the Committee on Oversight and Government Reform of the House of Representatives, the Committee on Homeland Security and Governmental Affairs of the Senate, and the Office of Management and Budget, pursuant to the Privacy Act, 5 U.S.C. 552a(r).

The system of records notice entitled “NCMNPS-2, Employee Administrative Records” is published in its entirety below.

Dated: December 12, 2018.
Paul N. Lekas,
General Counsel and Chief Privacy Officer.

NCMNPS-2

SYSTEM NAME AND NUMBER:

NCMNPS-2, Employee Administrative Records.

SECURITY CLASSIFICATION:

None of the information in the system is classified.

SYSTEM LOCATION:

Records are maintained at the National Commission on Military, National, and Public Service's office in Arlington, VA. The mailing address for the Commission is 2530 Crystal Drive, Suite 1000, Box No. 63, Arlington, VA 22202. The Department of Defense's Washington Headquarter Services (WHS) provides some human resource services under an interagency memorandum of understanding. Records held by WHS are handled consistent with their system of records.

SYSTEM MANAGER(S):

Director of Operations, National Commission on Military, National, and Public Service, 2530 Crystal Drive, Suite 1000, Box No. 63, Arlington, VA 22202. The Director of Operations can be contacted at 703-571-3742 or info@inspire2serve.gov.

AUTHORITY FOR MAINTENANCE OF THE SYSTEM:

5 U.S.C. 5501 et seq., 5525 et seq., 5701 et seq., and 6301 et seq.; Executive Order 9397, as amended by Executive Order 13478; the Ethics in Government Act of 1978; 5 U.S.C. 301; 44 U.S.C. 3101; Public Law 114-328, sections 551-557.

PURPOSE(S) OF THE SYSTEM:

The information in the system is being collected to enable the Commission to manage and administer human capital functions, including personnel actions, payroll, time and attendance, leave, insurance, tax, retirement and other benefits, and employee claims for loss or damage to personal property; to prepare related reports to other federal agencies; to prepare travel arrangements for Commission employees; and to apply the federal ethics regulations to the Commission and its employees. The information will also be used for administrative purposes to ensure quality control, performance, and improving management processes.

CATEGORIES OF INDIVIDUALS COVERED BY THE SYSTEM:

Individuals covered by this system are current and former Commission employees, volunteers, detailees, applicants, and interns who work at the Commission (collectively, “employees”) and their named dependents, beneficiaries, and/or emergency contacts.

CATEGORIES OF RECORDS IN THE SYSTEM:

Records in this system may contain identifiable information about individuals including, without limitation: (1) Identification and contact information, including name, address, email address, phone number and other contact information; (2) employee emergency contact information, including name, phone number, relationship to employee or emergency contact; (3) Social Security number (SSN), employee ID number, organization code, pay rate, salary, grade, length of service, and other related pay and leave records including payroll data; (4) biographic and demographic data, including date of birth and marital or domestic partnership status; (5) employment-related information such as performance reports, training, professional licenses, certification, and memberships information, employee claims for loss or damage to personal property, and other information related to employment by the Commission; (6) benefits data, such as health, life, travel, and disability insurance information; (7) retirement benefits information and flexible spending account information; (8) travel-related information, including information related to reimbursement for official travel; and (9) information compiled in connection with annual ethics filings and related regulatory requirements.

General personnel and administrative records contained in this system are covered under the government-wide systems of records notice published by the Office of Personnel Management (OPM/GOVT-1). This system complements OPM/GOVT-1 and this notice incorporates by reference but does not repeat all of the information contained in OPM/GOVT-1.

RECORD SOURCE CATEGORIES:

Information in this system is obtained from current and former Commission employees; their named dependents, beneficiaries and/or emergency contacts; individuals who have applied for a position or have been extended offers of employment by the Commission; and from individuals and entities associated with federal employee benefits, retirement, human resource functions, accounting, and payroll systems administration.

ROUTINE USES OF RECORDS MAINTAINED IN THE SYSTEM, INCLUDING CATEGORIES OF USERS AND PURPOSES OF SUCH USES:

In addition to those disclosures permitted under 5 U.S.C. 552a(b), all or a portion of the records or information contained in this system may be disclosed by the Commission as a routine use pursuant to 5 U.S.C. 552a(b)(3) as follows:

A. To the Department of Justice (DOJ), including Offices of the U.S. Attorneys, or other federal agencies conducting litigation or in proceedings before any court, adjudicative, or administrative body, when it is relevant or necessary to the litigation and one of the following is a party to the litigation or has an interest in such litigation:

1. The Commission;

2. Any employee or former employee of the Commission in his or her official capacity;

3. Any employee or former employee of the Commission in his or her individual capacity when DOJ or the Commission has agreed to represent the employee; or

4. The U.S. Government or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when: (1) The Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

F. To another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To contractors and their agents, experts, consultants, and others performing or working on a contract, service, cooperative agreement, or other assignment for the Commission, when necessary to accomplish an agency function related to this system of records. Individuals provided information under this routine use are subject to the same Privacy Act requirements and limitations on disclosure as are applicable to the Commission officers and employees.

H. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

I. To designated officers and employees of federal, state, tribal, territorial, local, or international agencies in connection with the hiring or continued employment of an individual, the conduct of a suitability or security investigation of an individual, the grant, renewal, suspension, or revocation of a security clearance, or the certification of security clearances, to the extent that the Commission determines the information is relevant and necessary to the hiring agency's decision.

J. To a court, magistrate, or administrative tribunal in the course of presenting evidence, including disclosures to opposing counsel or witnesses in the course of civil discovery, litigation, or settlement negotiations or in connection with criminal law proceedings.

K. To the other federal agencies who provide payroll personnel processing services under a cross-servicing agreement for purposes relating to the conversion of the Commission employee payroll and personnel processing services; the issuance of paychecks to employees and distribution of wages; and the distribution of allotments and deductions to financial and other institutions, some through electronic funds transfer.

L. To federal, state, tribal, territorial, or local agencies for use in locating individuals and verifying their income sources to enforce child support orders, to establish and modify orders of support, and for enforcement of related court orders.

M. To provide wage and separation information to another federal agency as required by law for payroll purposes.

N. To the Office of Personnel Management, the Merit System Protection Board, Federal Labor Relations Authority, or the Equal Employment Opportunity Commission when requested in the performance of their authorized duties.

O. To the Department of Labor in connection with a claim filed by an employee for compensation due to a job-connected injury or illness.

P. To the Department of the Treasury to issue checks.

Q. To State offices of unemployment compensation with survivor annuity or health benefits claims or records reconciliations.

R. To Federal Employee's Group Life Insurance or Health Benefits carriers in connection with survivor annuity or health benefits claims or records reconciliations.

S. To the Internal Revenue Service and State and local tax authorities for which an employee is or was subject to tax regardless of whether tax is or was withheld in accordance with Treasury Fiscal Requirements, as required.

T. To any source from which additional information is requested by the Commission relevant to a Commission determination concerning an individual's pay, leave, or travel expenses, to the extent necessary to identify the individual, inform the source of the purpose(s) of the request, and to identify the type of information requested.

U. To the Office of Management and Budget at any stage in the legislative coordination and clearance process in connection with private relief legislation as set forth in OMB Circular No. A-19.

V. To the Social Security Administration and the Department of the Treasury to disclose pay data on an annual basis.

W. To the Department of Health and Human Services for the purpose of providing information on new hires and quarterly wages as required under the Personal Responsibility and Work Opportunity Reconciliation Act of 1996.

X. To the news media and the public, with the approval of the Chief Privacy Officer in consultation with counsel, when there exists a legitimate public interest in the disclosure of the information or when disclosure is necessary to preserve confidence in the integrity of the Commission or is necessary to demonstrate the accountability of the Commission's officers, employees, or individuals covered by the system, except to the extent it is determined that release of the specific information in the context of a particular case would constitute an unwarranted invasion of personal privacy.

POLICIES AND PRACTICES FOR STORAGE OF RECORDS:

The Commission stores records in this system electronically or on paper in secure facilities in a locked drawer behind a locked door.

POLICIES AND PRACTICES FOR RETRIEVAL OF RECORDS:

Only authorized personnel can access or retrieve information. Records may be retrieved by a variety of fields, including, without limitation, the individual's name, SSN, address, account number, transaction number, phone number, date of birth, or by some combination thereof.

POLICIES AND PRACTICES FOR RETENTION AND DISPOSAL OF RECORDS:

The Commission will maintain electronic and paper records under the National Archives and Records Administration's General Records Schedules 1.1, 2.1-2.8.

ADMINISTRATIVE, TECHNICAL, AND PHYSICAL SAFEGUARDS:

Records in this system are safeguarded in accordance with applicable rules and policies, including automated systems security and access policies. Access to records in this system is limited to those individuals who have a need to know the information for the performance of their official duties and who have appropriate clearances or permissions.

RECORD ACCESS PROCEDURES:

Individuals seeking notification and access to any record contained in this system of records, or seeking to contest its content, may submit a request in writing to the Chief Privacy Officer at the address provided for the System Manager, above. When seeking records about yourself from this system of records your request must comply with the Commission's Privacy Act regulations and must include sufficient information to permit us to identify potentially responsive records. In addition, you must sign your request, and your signature must either be notarized or submitted under 28 U.S.C. 1746, a law that permits statements to be made under penalty of perjury as a substitute for notarization. If your request is seeking records pertaining to another living individual, you must include a statement from that individual certifying his/her consent to your access to his/her records. Without this information, we may not be able to conduct an effective search, and your request may be denied due to lack of specificity or lack of compliance with applicable regulations.

CONTESTING RECORD PROCEDURES:

See “Record Access Procedures” above.

NOTIFICATION PROCEDURES:

See “Record Access Procedures” above.

EXEMPTIONS PROMULGATED FOR THE SYSTEM:

None.

HISTORY:

No previous Federal Register notices for this system of records exist.

[FR Doc. 2018-27289 Filed 12-17-18; 8:45 am]

BILLING CODE 3610-YE-P